DEPARTMENT OF ENERGY

Federal Energy Regulatory Commission

[Project No. 2000-036]

Power Authority of the State of New York; Notice Granting Late Intervention

October 10, 2003.

On May 22, 2002, the Commission issued a notice of application accepted for filing and solicitation of motions to intervene and protests for the St. Lawrence-FDR Power Project 2000, located on the St. Lawrence River in St. Lawrence County, New York. The notice established July 22, 2002, as the deadline for filing motions to intervene.

On March 28, 2003, Congressman Dennis J. Kucinich, representing Ohio's 10th Congressional District, filed an untimely motion to intervene and comments. Granting the motion to intervene will not unduly delay or disrupt the proceeding, or prejudice other parties to it. Therefore, pursuant to Rule 214,¹ the motion to intervene filed by Congressman Dennis J. Kucinich is granted, subject to the Commission's rules and regulations.

¹ 18 CFR 385.214 (2003).

Magalie R. Salas,
Secretary.

[FR Doc. E3-00096 Filed 10-21-03; 8:45 am]

BILLING CODE 6717-01-P